DEPARTMENT OF HEALTH AND HUMAN SERVICES

Indian Health Service

List of Recipients of Indian Health Scholarships Under the Indian Health Scholarship Program

The regulations governing Indian Health Care Improvement Act Programs (Pub. L. 94-437) provide at 42 CFR 136.334 that the Indian Health Service shall publish annually in the Federal Register a list of recipients of Indian Health Scholarships, including the name of each recipient, school and Tribal affiliation, if applicable. These scholarships were awarded under the authority of Sections 103 and 104 of the Indian Health Care Improvement Act, 25 U.S.C. 1613-1613a, as amended by the Indian Health Care Amendments of 1988, Public Law 100-713.

The following is a list of Indian Health Scholarship Recipients funded under Sections 103 and 104 for Fiscal Year 2009:

Ahpeahtone, Edwin Paul, University of Oklahoma, Delaware Nation, Oklahoma.

Alexander, Laura Lee, Pennsylvania College of Optometry, Native Village of Selawik, Alaska.

Amdur-Clark, Micah Evan, Northeastern University, Citizen Potawatomi Nation, Oklahoma.

Anagale, Paul Todd, University of Minnesota/Duluth, Navajo Nation, Arizona, New Mexico & Utah.

Anderson, Debra Jean, Northern Arizona University, White Earth Band of the Minnesota Chippewa Tribe, Minnesota.

Avery, Shaela Ann, University of Utah College of Medicine, Navajo Nation, Arizona, New Mexico & Utah.

Azure, Joan Marie, Dakota State College, Turtle Mountain Band of Chippewa Indians of North Dakota.

Azure, Krysten Ross, University of North Dakota, Turtle Mountain Band of Chippewa Indians of North Dakota.

Bacon, Kyle, Idaho State University College of Pharmacy, Shoshone Tribe of the Wind River Reservation, Wyoming.

Barr, Eva Ann, Bacone College, United Keetoowah Band of Cherokee Indians in Oklahoma.

Barrett, Haley Nicole, University of Oklahoma Health Sciences Center, Cherokee Nation, Oklahoma.

Battese, Anthony Steven, Cameron University, Prairie Band of Potawatomi Nation, Kansas.

Beals, Charles Gregory, Oklahoma State University, Muscogee (Creek) Nation, Oklahoma.

Beaver, Aaron Don, University of Oklahoma Health Sciences Center, Choctaw Nation, Oklahoma.

Beaver, Allen Don, University of Oklahoma Health Sciences Center, Choctaw Nation of Oklahoma.

Beck, Dustin Ryan, Oklahoma State University, Cherokee Nation, Oklahoma.

Begay, Mirielle Rose, University of New Mexico, Albuquerque, Navajo Nation, Arizona, New Mexico & Utah.

Begay, Natalie, University of Washington, Pueblo of Santa Clara, New Mexico.

Begaye, Adrienne Marie, University of Arizona College of Pharmacy, Navajo Nation, Arizona, New Mexico & Utah.

Begaye, Robbin L., Northern Arizona University, Navajo Nation, Arizona, New Mexico & Utah.

Benally, Charleen, New Mexico State University College of Nursing, Navajo Nation, Arizona, New Mexico, Utah.

Benally, Taleisa Morgan, University of New Mexico/Albuquerque, Navajo Nation, Arizona, New Mexico & Utah.

Bercier, Shellee, Turtle Mountain Community College, Turtle Mountain Band of Chippewa Indians of North Dakota.

Berger, Jessica Paulette, Montana State University, Chippewa Cree Indians of the Rocky Boy's Reservation, Montana.

Bighorse, Amanda Nicole, Oklahoma State University, Cherokee Nation, Oklahoma.

Blackburn, Jimmy, University of Oklahoma Health Sciences Center, Choctaw Nation of Oklahoma.

Blackfox, Sasha Denee, Cumberland University, Cherokee Nation, Oklahoma.

Bolton-Baldwin, Marjorie Elsie, University of Alaska School of Nursing, Native Village of Kotzebue, Alaska.

Borges, Laura Annabeth, University of Oklahoma, Choctaw Nation of Oklahoma.

Bost, Dekoda Kole, Oklahoma State University, Choctaw Nation of Oklahoma.

Boyd, Cassandra Iva, University of New Mexico, Navajo Nation, Arizona, New Mexico & Utah.

Brady, Meagan Leigh, University of Oklahoma Health Sciences Center, Comanche Nation, Oklahoma.

Brandt, Monica Renea, University of Oklahoma, Muscogee (Creek) Nation, Oklahoma.

Brewer, Cristie Shon, Clackamas Community College, Cherokee Nation, Oklahoma.

Brisbois, Leaha, Washington State University, Turtle Mountain Band of Chippewa Indians of North Dakota.

Brumley (Walker), Breanna Jo, University of Oklahoma Health Sciences Center, Cherokee Nation, Oklahoma.

Buck Elk, Michael Warren, Montana State University, Crow Tribe of Montana.

Burden-Greer, Katie Nicole, University of Oklahoma Health Sciences Center, Muscogee (Creek) Nation, Oklahoma.

Butler, Collette Michelle, Arizona School of Dentistry, Navajo Nation, Arizona, New Mexico & Utah.

Calderon, Sophina Manheimer, University of Rochester School of Medicine, Navajo Nation, Arizona, New Mexico & Utah.

Cardenas-Begaye, Dharshini, Dixie State College of Utah, Navajo Nation, Arizona, New Mexico & Utah.

Cavanaugh, Sarah, University of Mary, Spirit Lake Tribe, North Dakota.

Chatter, DeRay Jacob, Weber State University, Navajo Nation, Arizona, New Mexico & Utah.

Clary, Zachary K., Oklahoma State University, Cherokee Nation, Oklahoma.

Cleavenger, Aaron James, Everest College, Chippewa Cree Indians of the Rocky Boy's Reservation, Montana.

Cleavenger, Beth Ann, University of Montana, Chippewa Cree Indians of the Rocky Boy's Reservation, Montana.

Coble, Leslie Ann, University of South Dakota, Turtle Mountain Band of Chippewa Indians of North Dakota.

Cody, Leigh, Northern Arizona University, Navajo Nation, Arizona, New Mexico & Utah.

Colclasure, Robin Lynn, Rogers State College, Cherokee Nation, Oklahoma.

Colelay, Aletta Lynn, Northland Pioneer College, White Mountain Apache Tribe of the Fort Apache Reservation, Arizona.

Collins, Sara Jane, University of Oklahoma, Cherokee Nation, Oklahoma.

Coming Hay, April Johanna, Dickinson State University, Three Affiliated Tribes of the Fort Berthold Reservation, North Dakota.

Cook, Raymond Natonabah, University of New Mexico, Navajo Nation, Arizona, New Mexico & Utah.

Corbin, Christopher Neal, University of Oklahoma Health Sciences Center, Cherokee Nation, Oklahoma.

Cummings, Samantha Joellen, University of Michigan, Oglala Sioux Tribe of the Pine Ridge Reservation, South Dakota.

Cuny, Ryan Wilson, University of Minnesota/Duluth, Sisseton-Wahpeton Sioux Tribe of the Lake Traverse Reservation, South Dakota.

Curley, Dustin M., East Central University, Navajo Nation, Arizona, New Mexico & Utah.

Curley-Moses, Tiffany Dawn, Northern Arizona University, San Carlos Apache Tribe of the San Carlos Reservation, Arizona.

Davis, Brandy Darlene, Western Carolina University, Eastern Band of Cherokee Indians of North Carolina.

Davis, Cassidy Wray, University of Oklahoma Health Sciences, Center, Choctaw Nation of Oklahoma.

Davis, Chance Wesley, University of Oklahoma Health Sciences Center, Choctaw Nation of Oklahoma.

Davis, Deidrea Rose, Northern Arizona University, Navajo Nation, Arizona, New Mexico & Utah.

Davis, Kayla Joyce, Boise State University, Bois Forte Band of the Minnesota Chippewa Tribe, Minnesota.

Day, Autumn Ann, Kirksville College of Osteopathic Medicine, Leech Lake Band of the Minnesota Chippewa Tribe, Minnesota.

De Vera, Melissa Myers, University of Nevada/Reno, Chippewa Cree Indians of the Rocky Boy's Reservation, Montana.

Debo, Erica Kristin, Southwestern Oklahoma State University, Choctaw Nation of Oklahoma.

Decker-Walks Over Ice, Amber Victoria, University of Montana, Confederated Salish & Kootenai of the Flathead Reservation, Montana.

Dez, Desiderio, Northern Arizona University, Navajo Nation, Arizona, New Mexico & Utah.

Dickson, Jamie Ruth, Salish Kootenai College, Navajo Nation, Arizona, New Mexico & Utah.

Diswood, Patricia Heather, University of New Mexico, Navajo Nation, Arizona, New Mexico & Utah.

Dolson, Charles William, College of St. Scholastica, Red Lake Band of Chippewa Indians, Minnesota.

Donaldson, Carrie Marie, University of the Pacific, Village of Old Harbor (Aleut), Alaska.

Downum, Kyle Wilson, Northeastern State University, Peoria Tribe of Indians of Oklahoma.

Draper, Melanie B., Excela Health School of Anesthesia, Cherokee Nation, Oklahoma.

Drappeau, Donis Devoree, University of South Dakota, Yankton Sioux Tribe of South Dakota.

Duncan, Caleb Jerome, Southwestern Oklahoma State University, Cherokee Nation, Oklahoma.

Duncan, Colette Renee, Simmons College, Choctaw Nation of Oklahoma.

Endischee, Flonda, University of New Mexico, Navajo Nation, Arizona, New Mexico & Utah.

Enfield, Donna Estella, College of St. Catherine, Choctaw Nation of Oklahoma.

English, Brittany Renee, University of Oklahoma Health Sciences Center, Cherokee Nation, Oklahoma.

Enix, Jessica Lea, University of Oklahoma Health Sciences Center, Choctaw Nation of Oklahoma.

Evans, Amanda Lorna, University of Montana, Confederated Salish & Kootenai of the Flathead Reservation, Montana.

Evans, Crystalle M., Oklahoma State University, Cherokee Nation of Oklahoma.

Faram, Ronald Chad, University of Oklahoma Health Sciences Center, Choctaw Nation of Oklahoma.

Fitzl, Robin A., Rogers State College, Choctaw Nation of Oklahoma.

Fleming, Travis James, Southwestern Oklahoma State University, Cherokee Nation, Oklahoma.

Ford-Bremerman, Jessica Louise, University of Washington School of Dentistry, Confederated Tribes and Bands of the Yakama Nation, Washington.

Forrester, Ross L., Northeastern State University, Cherokee Nation, Oklahoma.

Foruria, Georgianna, University of Alaska Southeast, Central Council of Tlingit & Haida Indian Tribes, Alaska.

Foster, Alexandria L., Southwestern Oklahoma State University, Muscogee (Creek) Nation, Oklahoma.

Foster, James Ray, University of Oklahoma Health Sciences Center, Cherokee Nation, Oklahoma.

Frazier, Hunter L., University of Colorado School of Dentistry/Denver, Cherokee Nation, Oklahoma.

Frederick, Denise, Cankdeska Cikana Community College, Spirit Lake Tribe, North Dakota.

Freeling, Catherine Jane, University of Oklahoma Health Sciences Center, Cherokee Nation, Oklahoma.

Frizzell, Felicia, University of the Pacific, Mescalero Apache Tribe of the Mescalero Reservation, New Mexico.

Frost, Jerrod Caloway, Southwestern Oklahoma State University, Cherokee Nation, Oklahoma.

Gallagher, Shawna Fay, Wright Institute, Klamath Indian Tribe of Oregon.

Garcia, Karen Gina, Kirksville College of Osteopathic Medicine, Pit River Tribe (Montgomery Creek), California.

Garland (Greenwood), Karen L., Southwestern Oklahoma State University, Cherokee Nation, Oklahoma.

Garrison, Bijiibaa Kristin, Harvard Medical School, Navajo Nation, Arizona, New Mexico & Utah.

Gates, Khrys W., University of Missouri/St. Louis, Cherokee Nation, Oklahoma.

Gee, Jodi Leigh, University of New Mexico, Navajo Nation, Arizona, New Mexico & Utah.

Gilmore, Jesicah Marie, University of Oklahoma Health Sciences Center, Chickasaw Nation, Oklahoma.

Gipp, Chenoa R.., University of North Dakota, Standing Rock Sioux Tribe of North & South Dakota.

Gladden, Emily, Midwestern University, Navajo Nation, Arizona, New Mexico & Utah.

Good, Jennifer Lynn, University of North Dakota, Turtle Mountain Band of Chippewa Indians of North Dakota.

Gourneau, Jeremy L, University of North Dakota, Turtle Mountain Band of Chippewa Indians of North Dakota.

Gower, Shanon R., Southwestern Oklahoma State University, Cherokee Nation, Oklahoma.

Grabowski, Laura Anne, Marquette University, Choctaw Nation of Oklahoma.

Green-Van De Streek, Sarah Elizabeth, North Dakota State University, White Earth Band of the Minnesota Chippewa Tribe, Minnesota.

Guilbert, Danielle A., Mayville State University, Turtle Mountain Band of Chippewa Indians of North Dakota.

Hajicek, Jodi Lynn, University of North Dakota, Turtle Mountain Band of Chippewa Indians of North Dakota.

Harp, Emma Beth, Oklahoma State University, Cherokee Nation, Oklahoma.

Harrison, Lisa Lizette, Mid-State Technical College, Ho-Chunk Nation of Wisconsin.

Hatchett, Sandra Leah, University of Colorado/Denver, Oglala Sioux Tribe of the Pine Ridge Reservation, South Dakota.

Hatley, Jonathan M., Northeastern State University, Muscogee (Creek) Nation, Oklahoma.

Hatton, Bobby Shane, East Central University, Chickasaw Nation, Oklahoma.

Hayes, Teresa A., Southwestern Oklahoma State University, Cherokee Nation, Oklahoma.

Henry, David Edmond, Creighton University Dental School, Cherokee Nation, Oklahoma.

Hernandez, Carmen Marie, Midwestern State University, Kiowa Indian Tribe of Oklahoma.

Herron (Sherman), Lisa Renee, University of Minnesota College of Pharmacy, Leech Lake Band of the Minnesota Chippewa Tribe, Minnesota.

Heth, Talara K., Connors State College, Cherokee Nation, Oklahoma.

Hicks, Lucretia, Wake Forest University, Eastern Band of Cherokee Indians of North Carolina.

Hill, Kyle Xavier, University of North Dakota, Turtle Mountain Band of Chippewa Indians of North Dakota.

Hinkle, Brian A., Southwestern Oklahoma State University, Cherokee Nation, Oklahoma.

Holguin, Guadalupe Joseph, Arizona State University, Pascua Yaqui Tribe of Arizona.

Horn, Tara Jo, Montana State University School of Nursing, Blackfeet Tribe of the Blackfeet Indian Reservation of Montana.

Howard, Audrey L., Connors State College, United Keetoowah Band of Cherokee Indians in Oklahoma.

Huff, Zachary Wade, University of Oklahoma Health Sciences Center, Choctaw Nation of Oklahoma.

Humphers, Jon Michael, Des Moines University, Chickasaw Nation, Oklahoma.

Humphreys-Deschiney, Christina Lilly, University of St. Francis, Navajo Nation, Arizona, New Mexico & Utah.

Hunnicutt, Rita Ann, Oklahoma Baptist University, Citizen Potawatomi Nation, Oklahoma.

Ivey, Julie Anne, University of New England, Houlton Band of Maliseet Indians of Maine.

Iyott, John Phillip, Alliant International University, Rosebud Sioux Tribe of the Rosebud Indian Reservation, South Dakota.

Jackson, Todd Alan, University of Oklahoma Health Sciences Center, Choctaw Nation of Oklahoma.

Jaramillo, Ernest Benjamin, Central New Mexico Community College, Pueblo of Acoma, New Mexico.

Jensen, Kelsey Nicole, Arizona State University, Oglala Sioux Tribe of the Pine Ridge Reservation, South Dakota.

Jensen, Maximillion, University of New Mexico, Navajo Nation, Arizona, New Mexico & Utah.

Jim, Leroy, The Fielding Institute, Navajo Nation, Arizona, New Mexico & Utah.

Johnson, Blakely Elizabeth, University of Arkansas, Cherokee Nation, Oklahoma.

Johnston, Kristen Denae, University of Oklahoma Health Sciences Center, Muscogee (Creek) Nation, Oklahoma.

Jojola, Nicole, Northland Pioneer College, Hopi Tribe of Arizona.

Jones, Carman R., University of North Dakota, Choctaw Nation of Oklahoma.

Jones, Heather A., Northeastern State University, Choctaw Nation of Oklahoma.

Jones, Tamra Shay, Creighton University Dental School, Navajo Nation, Arizona, New Mexico & Utah.

Kabotie, Margaret Alicia, Northern Arizona University, Hopi Tribe of Arizona.

Kaiser, Morgan Lynn, North Dakota State University, White Earth Band of the Minnesota Chippewa Tribe, Minnesota.

Kane, Marie A., University of Montana, Arapahoe Tribe of the Wind River Reservation, Wyoming.

Kaye, Justin B., University of New Mexico, Navajo Nation, Arizona, New Mexico & Utah.

Kee, Timothy W., University of Rhode Island, Assiniboine & Sioux Tribes of the Fort Peck Indian Reservation, Montana.

Ketcher, John M., Southern College of Optometry, Cherokee Nation, Oklahoma.

Key, Cody Ryan, University of Oklahoma Health Sciences Center, Choctaw Nation of Oklahoma.

Kirk, Brant Evan, Oregon Health Sciences University, Klamath Indian Tribe of Oregon.

Knight-Brown, Miranda Dawn, University of Minnesota/Duluth, Cherokee Nation, Oklahoma.

Kurley, Stanley, A.T. Still University, White Mountain Apache Tribe of the Fort Apache Reservation, Arizona.

Lamb, Bianca Irene, Texas A&M University, Lipan Apache Tribe of Texas (State-recognized).

Landgren, Shanna Rachelle, University of North Dakota, Bois Forte Band of the Minnesota Chippewa Tribe, Minnesota.

Lane, Dakotah C., Cornell University Medical College, Lummi Tribe of the Lummi Reservation, Washington.

Larney, Kristi Tafv, Southwestern Oklahoma State University, Seminole Nation of Oklahoma.

Lauderdale, Lisa Ann, University of Oklahoma Health Sciences Center, Kickapoo Tribe of Oklahoma.

Laughlin, Tawnya Rae, University of New Mexico/Gallup, Navajo Nation, Arizona, New Mexico & Utah.

Laurence, Kami Lynn, University of Colorado Dental School, Navajo Nation, Arizona, New Mexico & Utah.

Lee, Christa Nicole, Arizona State University, Navajo Nation, Arizona, New Mexico & Utah.

Lee, Jared J., Arizona State University, White Mountain Apache Tribe of the Fort Apache Reservation, Arizona.

Lee, Jhanna, Drexel University, Onondaga Nation of New York.

Lee, Sonya Tere, Weber State University, Navajo Nation, Arizona, New Mexico & Utah.

LeMaster, Robbi Lynn, University of Iowa, Santee Sioux Tribe of the Santee Reservation of Nebraska.

Lerche, Kathryn Addie, Michigan Technological University, Sault Ste. Marie Tribe of Chippewa Indians of Michigan.

Light, Jessica L., Dakota State University, Cheyenne River Sioux Tribe of the Cheyenne River Reservation, South Dakota.

Livingston, Carole Ann, Argosy University/Eagan, Bad River Band of the Lake Superior Tribe of Chippewa Indians of the Bad River Reservation, Wisconsin.

Longhurst, William D., University of North Dakota, Navajo Nation, Arizona, New Mexico & Utah.

Love, Socia Nicole, University of Minnesota/Duluth, Cherokee Nation, Oklahoma.

Maddox, Gregory John, Cornell University Medical College, Choctaw Nation of Oklahoma.

Maleport, Marcy Marlene, Lake Superior State College, Sault Ste. Marie Tribe of Chippewa Indians of Michigan.

Mannila, Anthony Lee, College of St. Scholastica, Bad River Band of the Lake Superior Tribe of Chippewa Indians of the Bad River Reservation, Wisconsin.

Marquis, Stacie Lee, Lourdes College, Citizen Potawatomi Nation, Oklahoma.

Marvel, Lindsey, Indiana University/Bloomington, Caddo Indian Tribe of Oklahoma.

Mason, Caley, University of Montana, Three Affiliated Tribes of the Fort Berthold Reservation, North Dakota.

Massie, Alissa Louise, Arcadia University, Sault Ste. Marie Tribe of Chippewa Indians of Michigan.

Matlock, Jazmin, Oklahoma State University, Cherokee Nation, Oklahoma.

Matthews, William Burt Lewis, University of Oklahoma Health Sciences Center, Cherokee Nation, Oklahoma.

Mayahi, Naseam, University of Nevada/Las Vegas, Seminole Nation of Oklahoma.

Mayo, Joshua Allen, University of Oklahoma Health Sciences Center, Choctaw Nation of Oklahoma.

McCorkle, Cody W., University of Minnesota/Duluth, Citizen Potawatomi Nation, Oklahoma.

McDaniels, Christopher Michael, Northeastern State University, Cherokee Nation, Oklahoma.

McDonald, Kathryn Elizabeth, Northern Arizona University, Navajo Nation, Arizona, New Mexico & Utah.

McEvoy, Kathryn Ann, University of North Dakota, Cherokee Nation, Oklahoma.

McLemore, Alison Denise, Southwestern Oklahoma State University, Cherokee Nation, Oklahoma.

Means, Darrin Curtis, Tulsa Community College, Cherokee Nation, Oklahoma.

Meeks, Kayla Don, University of Oklahoma Health Sciences Center, Chickasaw Nation, Oklahoma.

Mesteth, Connally (Connie) Marie, University of Colorado Health Sciences Center, Oglala Sioux Tribe of the Pine Ridge Reservation, South Dakota.

Middleton, Kelly Diane, University of Alabama/Birmingham, Choctaw Nation of Oklahoma.

Mika, Krista Leigh, University of Minnesota/Duluth, Bad River Band of the Lake Superior Tribe of Chippewa Indians of the Bad River Reservation, Wisconsin.

Miles, Rachelle Ranee, University of South Dakota, Navajo Nation, Arizona, New Mexico & Utah.

Miller, John Ross, Oklahoma State University, Cherokee Nation, Oklahoma.

Mode, Jessica Lois, Harding University, Choctaw Nation of Oklahoma.

Morris, Gerald Wayne, Indiana University School of Medicine, Pokagon Band of Potawatomi Indians, Michigan and Indiana.

Mote, Mary, University of Oklahoma Health Sciences Center, Chickasaw Nation, Oklahoma.

Mowrey, Sara Ann, University of Oklahoma Health Sciences Center, Muscogee (Creek) Nation, Oklahoma.

Mulanax, Jamie Lynn, Kansas City University of Medicine & Biosciences, Citizen Potawatomi Nation, Oklahoma.

Mullican, Faye L., Connors State College, Cherokee Nation, Oklahoma.

Murray, Sara Emily, University of Oklahoma Health Sciences Center, Choctaw Nation of Oklahoma.

Myers, Sarah E., Vanderbilt University School of Nursing, Cherokee Nation, Oklahoma.

Nelson, Joseph Jake, Central Washington University, Confederated Tribes and Bands of the Yakama Nation, Washington.

Nelson, Tiara Novelle, Minnesota State University/Moorhead, Red Lake Band of Chippewa Indians, Minnesota.

Newbrough, Deidra Dawn, Colorado State University, Cheyenne River Sioux Tribe of the Cheyenne River Reservation, South Dakota.

Nix, Micah Douglass, Oklahoma State University, Cherokee Nation, Oklahoma.

Not Afraid, Rosebud Faith, Montana State University/Bozeman, Crow Tribe of Montana.

Nunez, Euila Diane, New Mexico State University College of Nursing, Pueblo of Laguna, New Mexico.

O'Brien, Nancy Sue, Arizona State University, Cherokee Nation, Oklahoma.

O'Connell, Meghan Curry, University of Washington, Cherokee Nation, Oklahoma.

Old Elk, Chelsey Dionne, University of Montana, Crow Tribe of Montana.

Oldacre, Matt Lance, University of Oklahoma Health Sciences Center, Cherokee Nation, Oklahoma.

Ostagard, Estelle Anne, University of North Dakota, Turtle Mountain Band of Chippewa Indians of North Dakota.

Parker, Mahate Ann, University of North Dakota, Chickasaw Nation, Oklahoma.

Paul, Patsy A., Gateway Community College, Navajo Nation, Arizona, New Mexico & Utah.

Pearish, Loni Dawn, Oklahoma State University, Cherokee Nation, Oklahoma.

Pebworth, Destiny, East Central University, Choctaw Nation of Oklahoma.

Peltier, Luke Joseph, North Dakota State University, Turtle Mountain Band of Chippewa Indians of North Dakota.

Peltier, Michelle Marie, University of North Dakota, Turtle Mountain Band of Chippewa Indians of North Dakota.

Perryman, Russell C., University of Tulsa, Muscogee (Creek) Nation, Oklahoma.

Peshlakai, Karshira Fallon, University of New Mexico/Gallup, Navajo Nation, Arizona, New Mexico & Utah.

Peterson-Lewis, Annie May, University of Alaska/Anchorage, Village of Old Harbor (Aleut), Alaska.

Platero, Miriam, Northern Arizona University, Navajo Nation, Arizona, New Mexico & Utah.

Pletnikoff, Elise Marie, University of Washington, Sun'aq Tribe of Kodiak, (formerly Shoonaq' Tribe of Kodiak), Alaska.

Poitra, Berry James, North Dakota State University, Turtle Mountain Band of Chippewa Indians of North Dakota.

Poorbuffalo, Shanna, East Central University, Choctaw Nation of Oklahoma.

Porter, Billy Garrison, East Central University, Seminole Nation of Oklahoma.

Porter, Rachael Kristin, University of Oklahoma Health Sciences Center, Cherokee Nation, Oklahoma.

Powell, Rachel Leah, University of Oklahoma Health Sciences Center, Cherokee Nation, Oklahoma.

Preston, Drew Alan, University of California School of Dentistry/Los Angeles, Navajo Nation, Arizona, New Mexico & Utah.

Ramirez, Amanda Jo, Oklahoma City University, Muscogee (Creek) Nation, Oklahoma.

Rangel, Tammy Ann, Paris Junior College, Choctaw Nation of Oklahoma.

Reed III, William M., University of Oklahoma Health Sciences Center, Citizen Potawatomi Nation, Oklahoma.

Rice, Charan Norwakis, Xavier University of Louisiana, Pawnee Nation of Oklahoma.

Rico, Jennifer Rebecca Rose, Oklahoma City University, Caddo Indian Tribe of Oklahoma.

Roberts, Addison Pierce, University of Oklahoma, Cherokee Nation, Oklahoma.

Robinson, Riesa Lynne, University of Massachusetts/Boston, Hopi Tribe of Arizona.

Roecker, Whitney Ellen, University of Arkansas/Fayetteville, Cherokee Nation, Oklahoma.

Roselius, Kassi, University of North Dakota, Citizen Potawatomi Nation, Oklahoma.

Ross, Matthew, University of Southern California, Cherokee Nation, Oklahoma.

Rumsey, Matthew C., University of South Dakota, Osage Tribe, Oklahoma.

Running Hawk, Lacey Marie, University of Minnesota/Duluth, Standing Rock Sioux Tribe of North & South Dakota.

Saladin, Elizabeth Jane, Howard University College of Medicine, Seminole Nation of Oklahoma.

Salas, Lenora D., Central New Mexico Community College, Pueblo of Zia, New Mexico.

Saltclah, Shannon Marie, University of New Mexico, Navajo Nation, Arizona, New Mexico & Utah.

Sandoval, Adrian Kyle, Creighton University, Navajo Nation, Arizona, New Mexico & Utah.

Scantlen, Marty R., University of Oklahoma Health Sciences Center, Kiowa Indian Tribe of Oklahoma.

Scheurer, Mallory, University of Arkansas/Fayetteville, Cherokee Nation, Oklahoma.

Schlender, Margaret Marie, University of Wisconsin, Lac Courte Oreilles Band of Lake Superior Chippewa Indians of Wisconsin.

Schlotthauer, Rachael Joy, Loma Linda University, Cheyenne River Sioux Tribe of the Cheyenne River Reservation, South Dakota.

Schultheiss, Lindsey B., Hardin-Simmons University, Cherokee Nation, Oklahoma.

Shadaram, Sara Roya, University of Oklahoma Health Sciences Center, Cheyenne and Arapaho Tribes of Oklahoma.

Shaughnessy, Catherine Faith, Alliant International University, Muscogee (Creek) Nation, Oklahoma.

Shirleson, Jamie Ruth Morgan, Arizona State University Navajo Nation, Arizona, New Mexico & Utah.

Shirley, Jeremy, Arizona State University Navajo Nation, Arizona, New Mexico & Utah.

Short, Kayleigh Ann, Arizona School of Dentistry, Petersburg Indian Association, Alaska.

Shoup, Deanna Michelle, South Dakota School of Mines & Technology, Rosebud Sioux Tribe of the Rosebud Indian Reservation, South Dakota.

Silversmith, Lenora Rose, University of New Mexico/Gallup, Navajo Nation, Arizona, New Mexico & Utah.

Singer, Cheryle A., Arizona School of Dentistry, Navajo Nation, Arizona, New Mexico & Utah.

Skan, Jordan Dewey, University of Alaska/Fairbanks, Ketchikan Indian Corporation, Alaska.

Slate, Megan, Northeastern State University, Cherokee Nation, Oklahoma.

Small, Jade Derek, Charles Drew University of Medicine & Science, Northern Cheyenne Tribe of the Northern Cheyenne Indian Reservation, Montana.

Smith, Jana Renee, University of Oklahoma Health Sciences Center, Cherokee Nation, Oklahoma.

Smith, Samantha Jenny, University of New Mexico, Navajo Nation, Arizona, New Mexico & Utah.

Smith, Tanya R. Salish Kootenai College, Apache Tribe of Oklahoma.

Smith, Taylor Brooke, Southwestern Oklahoma State University, Cherokee Nation, Oklahoma.

Snider (Ragsdale), Allison L., Southwest Baptist University, Cherokee Nation, Oklahoma.

Sparks, Aaron D., University of Montana/Missoula, Fort Belknap Indian Community of the Fort Belknap Reservation of Montana.

St. Goddard, Marcia Lunn, University of Montana/Missoula, Blackfeet Tribe of the Blackfeet Indian Reservation of Montana.

Stamile, Zachary Peter, University of Oklahoma Health Sciences Center, Chickasaw Nation, Oklahoma.

Stimson, Danielle Rain, University of Washington School of Dentistry, Blackfeet Tribe of the Blackfeet Indian Reservation of Montana.

Tabor, Aaron Austin, University of Oklahoma Health Sciences Center, Cherokee Nation, Oklahoma.

Tarbell, Stephen Charles, University of Buffalo, St. Regis Band of Mohawk Indians of New York.

Taylor, Tara Lynn, Lewis and Clark State College, Nez Perce Tribe of Idaho.

Taylor, Valerie Michelle, Oklahoma State University, Wyandotte Tribe of Oklahoma.

Teel, Jena Beth, University of Oklahoma Health Sciences Center, Cherokee Nation, Oklahoma.

Thrasher, Carrie Ella, California State University/Long Beach, Choctaw Nation of Oklahoma.

Tincher, Amber Nicole, University of North Dakota,, Assiniboine & Sioux Tribes of the Fort Peck Indian Reservation, Montana.

Tom, Michelle, Nova Southeastern University, Navajo Nation, Arizona, New Mexico & Utah.

Tom, Nicole C., University of New Mexico/Gallup, Navajo Nation, Arizona, New Mexico & Utah.

Tomosie, Pearlyn G. University of North Dakota, Hopi Tribe of Arizona.

Townsend, Travis J., University of New Mexico/Albuquerque, Pueblo of Acoma, New Mexico.

Tsabetsaye, Jessica Lucillia, University of St. Francis, Zuni Tribe of the Zuni Reservation, New Mexico.

Tso, Crescentia Rose, Arizona State University Navajo Nation, Arizona, New Mexico & Utah.

Tsosie, Cynthia, Northern Arizona University, Navajo Nation, Arizona, New Mexico & Utah.

Turner, Stephen Matthew, University of Minnesota College of Pharmacy, White Earth Band of the Minnesota Chippewa Tribe, Minnesota.

Velarde, Susan A., University of New Mexico, Jicarilla Apache Nation, New Mexico

Vernon, Lauren E., Rose State College, Cherokee Nation, Oklahoma.

Waite, Jeremy Kenneth, Idaho State University College of Pharmacy, Native Village of Nunapitchuk, Alaska.

Walker, Krystina, University of Oklahoma Health Sciences Center, Cherokee Nation, Oklahoma.

Walker, Pearl, Bemidji State University, Standing Rock Sioux Tribe of North & South Dakota.

Walker, Tyson, Shasta College, White Mountain Apache Tribe of the Fort Apache Reservation, Arizona.

Walker-Ben, Valerie, University of New Mexico/Gallup, Navajo Nation, Arizona, New Mexico & Utah.

Wallace, Roseann Marie, University of Oklahoma Health Sciences Center, Muscogee (Creek) Nation, Oklahoma.

Wallace, Tricia Alane, University of New Mexico/Gallup, Zuni Tribe of the Zuni Reservation, New Mexico.

Walls, Nicholas Damond, University of Oklahoma Health Sciences Center, Choctaw Nation of Oklahoma.

Warwick, Rochelle L., University of Wisconsin/Eau Claire, Lac Courte Oreilles Band of Lake Superior Chippewa Indians of Wisconsin.

Waseta, Shawn Ray, Central New Mexico Community College, Zuni Tribe of the Zuni Reservation, New Mexico.

Waters, Jonathan Michael, University of Texas Medical School/Houston, Choctaw Nation of Oklahoma.

Watt, Calin Larhee, University of Oklahoma, Cherokee Nation, Oklahoma.

Watts, Brandi Kay, University of Oklahoma Health Sciences Center, Choctaw Nation of Oklahoma.

Webster, Elisha Elyse, Creighton University, Yankton Sioux Tribe of South Dakota.

Welch, Leeann Sue, Arizona School of Dentistry, Central Council of Tlingit & Haida Indian Tribes, Alaska.

Welsh, Dale William, University of Utah School of Medicine, Sault Ste. Marie Tribe of Chippewa Indians of Michigan.

Westlake, Julianne Camille, Gonzaga University, Native Village of Kiana, Alaska.

Wheeless, Leslie Amanda, Yale University School of Nursing, Ketchikan Indian Corporation, Alaska.

Whistler, Brett, University of South Dakota, Citizen Potawatomi Nation, Oklahoma.

White, Jenifer Lorraine, Northeastern Oklahoma State University, Cherokee Nation, Oklahoma.

White, Kristin Rae, University of New Mexico/Gallup, Navajo Nation, Arizona, New Mexico & Utah.

Whitehair, Lance, University of Minnesota/Duluth, Navajo Nation, Arizona, New Mexico & Utah.

Whitener, Henry Jake, Northeastern State University, United Keetoowah Band of Cherokee Indians in Oklahoma.

Whitsitt, Adam Douglas, Midwestern University, Choctaw Nation of Oklahoma.

Wilbourn, Whitney Dawn, University of Arkansas, Cherokee Nation, Oklahoma.

Wilch-Tweten, Saundra Whitney Madeline, Western Iowa Technical Community College, Sisseton-Wahpeton Sioux Tribe of the Lake Traverse Reservation, South Dakota.

Wiley, Matthew Hallett, Oklahoma State University, Muscogee (Creek) Nation, Oklahoma.

Williams, Jennifer Brooke, Washington University School of Medicine, Choctaw Nation of Oklahoma.

Williams, Matthew John, Indiana University Dental School, Pribilof Islands Aleut Communities of St. Paul & St. George Islands, Alaska.

Williams, Zachariah Frank, University of Oklahoma Health Sciences Center, Cherokee Nation, Oklahoma.

Wilson, Megan Breffney, Oklahoma State University, Muscogee (Creek) Nation, Oklahoma.

Yazzie, Marla Jana, University of Arizona, Navajo Nation, Arizona, New Mexico & Utah.

FOR FURTHER INFORMATION CONTACT: The Indian Health Service Scholarship Branch, 801 Thompson Avenue, Suite 120, Rockville, Maryland 20852, Telephone: (301) 443-6197, Fax: (301) 443-6048.

Date: December 17, 2009.
Randy Grinnell,
Deputy Director, Indian Health Service.

[FR Doc. E9-30945 Filed 12-29-09; 8:45 am]

BILLING CODE 4165-16-P